ENVIRONMENTAL PROTECTION AGENCY

[EPA-HQ-OEM-2015-0725; FRL-9999-01-OMS]

Information Collection Request Submitted to OMB for Review and Approval; Comment Request; Risk Management Program Requirements and Petitions To Modify the List of Regulated Substances Under the Clean Air Act (Renewal)

AGENCY: Environmental Protection Agency (EPA).

ACTION: Notice.

SUMMARY: The Environmental Protection Agency (EPA) is submitting an information collection request (ICR), Risk Management Program Requirements and Petitions to Modify the List of Regulated Substances under section 112(r) of the Clean Air Act (EPA ICR Number 1656.18, OMB Control Number 2050-0144) to the Office of Management and Budget (OMB) for review and approval in accordance with the Paperwork Reduction Act. This is a proposed extension of the ICR, which is currently approved through November 30, 2022. Public comments were previously requested via the Federal Register on December 14, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before August 8, 2022.

ADDRESSES: Submit your comments, referencing Docket ID No. EPA-HQ-OEM-2015-0725, online using www.regulations.gov (our preferred method) or by mail to: (1) EPA Docket Center, Environmental Protection Agency, Mail Code 28221T, 1200 Pennsylvania Ave. NW, Washington, DC 20460, and (2) OMB via email to oira_submission@omb.eop.gov. Address comments to OMB Desk Officer for EPA. EPA's policy is that all comments received will be included in the public docket without change, including any personal information provided, unless the comment includes profanity, threats, information claimed to Confidential Business Information (CBI), or other information whose disclosure is restricted by statute.

Submit written comments and recommendations to OMB for the proposed information collection within 30 days of publication of this notice to www.reginfo.gov/public/do/PRAMain.

Find this particular information collection by selecting “Currently under 30-day Review—Open for Public Comments” or by using the search function.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents, which explain in detail the information that EPA will be collecting, are available in the public docket for this ICR. The docket can be viewed online at www.regulations.gov. Out of an abundance of caution for members of the public and our staff, the EPA Docket Center and Reading Room is closed to the public, with limited exceptions, to reduce the risk of transmitting COVID-19. Our Docket Center staff will continue to provide remote customer service via email, phone, and webform. For further information about the EPA's public docket, Docket Center services and the current status, please visit us online at https://www.epa.gov/dockets. The telephone number for the Docket Center is 202-566-1744.

Abstract: This information collection is authorized by the following Clean Air Act (CAA) sections: for onsite documentation of Risk Management Plans (RMPs), section 112(r)(7)(B)(i) and (ii); for submitting an RMP, section 112(r)(7)(B)(iii); and, for onsite documentation and submittal of RMPs, section 114(a)(1). The agencies implementing the Risk Management Program use RMPs to evaluate compliance with the Chemical Accident Prevention Provisions in 40 CFR part 68 and to identify sources for inspection that may pose significant risks to the community. Citizens may use the information to assess and address chemical hazards in their communities and to respond appropriately in the event of a release of a regulated substance.

This request for comments relates to the renewal of OMB Control Number 2050-0144, which covers the Risk Management Program and is being consolidated with EPA ICR Number OMB Control Number 2050-0216, which represents the Risk Management Program information collection requirements impacted by the Final Risk Management Program Reconsideration Rule (Reconsideration Rule), published on December 19, 2019 (84 FR 69834). The Reconsideration Rule modified changes made to the Risk Management Program by the Final Risk Management Program Amendments Rule (Amendments Rule), published on January 13, 2017 (82 FR 4594). The consolidation covers information collection requirements from the Amendments Rule that were retained or retained with modification in the Reconsideration Rule. Once this renewal ICR is approved, OMB Control Number 2050-0216 will be discontinued.

EPA received no comments on the ICR. The final ICR package is being submitted to OMB for review and approval for a 30-day review period.

Form Numbers: None.

Respondents/affected entities: Stationary sources that manufacture, react, mix, store, or use substances in processes that require equipment designed, constructed, installed, operated, or maintained in specific ways to prevent accidental releases and ensure safe operations.

Respondent's obligation to respond: Mandatory under CAA section 112(r)(7)(B)(iii).

Estimated number of respondents: 14,216.

Frequency of response: Sources are required to register and submit an RMP once every five years, unless there are significant changes in the information provided.

Total estimated burden: 704,005 hours (per year). Burden is defined at 5 CFR 1320.03(b).

Total estimated cost: $50,147,128 (per year), which includes $31,044 annual operation & maintenance costs. No capital costs are associated with this ICR.

Changes in Estimates: This ICR estimates a total annual respondent burden of 704,005 hours, which is a decrease of 69,872 burden hours for all sources and States compared to the previous two ICRs being consolidated here. Three primary reasons account for this decrease in burden. First, the burden varies from one ICR renewal to the next due to different resubmission deadlines based on the sources' RMP re-submission deadlines and other regulatory deadlines. Therefore, the burden changes each year depending on how many sources must submit their RMP and comply with certain prevention program requirements. Second, the number of sources subject to the regulations fluctuates regularly and is slightly lower than in the previous ICR (12,995 sources in the previous ICR versus 12,341 sources in this ICR). Finally, the burden for rule familiarization under the Amendments rule and the Reconsideration rule is a one-time burden that was incurred at the time of implementation of the Reconsideration rule and is not included in this consolidated ICR. However, rule familiarization with the RMP requirements in general is retained for new sources in this consolidated ICR.

Courtney Kerwin,
Director, Regulatory Support Division.

[FR Doc. 2022-14461 Filed 7-6-22; 8:45 am]

BILLING CODE 6560-50-P